DEPARTMENT OF THE INTERIOR

United States Geological Survey

[GX13EN05ESB0500]

Advisory Committee on Climate Change and Natural Resource Science

AGENCY: U.S. Geological Survey, Interior.

ACTION: Meeting notice.

SUMMARY: In accordance with the requirements of the Federal Advisory Committee Act, 5 U.S.C. App. 2, we announce that the Advisory Committee on Climate Change and Natural Resource Science will hold a meeting.

DATES: Meetings: The meetings will be held as follows: Wednesday, September 18, 2013, from 9:00 a.m. to 5:45 p.m.; and Thursday, September 19, 2013 from 8:30 a.m. to 3:00 p.m. (All times Eastern).

ADDRESSES: Hall of the States Building, 444 North Capitol Street NW., Washington, DC 20001, Room 283/285.

FOR FURTHER INFORMATION CONTACT: Mr. Robin O'Malley, Designated Federal Officer, Policy and Partnership Coordinator, National Climate Change and Wildlife Science Center, U.S. Geological Survey, 12201 Sunrise Valley Drive, Mail Stop 400, Reston, VA 20192, romalley@usgs.gov, (703) 648-4086.

SUPPLEMENTARY INFORMATION: Chartered in May 2013, the Advisory Committee on Climate Change and Natural Resource Science (ACCCNRS) advises the Secretary of the Interior on the establishment and operations of the U.S. Geological Survey (USGS) National Climate Change and Wildlife Science Center (NCCWSC) and the Department of the Interior (DOI) Climate Science Centers (CSCs). ACCCNRS members represent federal agencies; tribal, state, and local governments; nongovernment organizations; academic institutions; and the private sector. Duties of the committee include: (A) Advising on the contents of a national strategy identifying key science priorities to advance the management of natural resources in the face of climate change; (B) advising on the nature, extent, and quality of relations with and engagement of key partners at the regional/CSC level; (C) advising on the nature and effectiveness of mechanisms to ensure the identification of key priorities from management partners and to effectively deliver scientific results in useful forms; (D) advising on mechanisms that may be employed by the NCCWSC to ensure high standards of scientific quality and integrity in its products, and to review and evaluate the performance of individual CSCs, in advance of opportunities to re-establish expiring agreements; and (E) coordinating as appropriate with any Federal Advisory Committee established for the DOI Landscape Conservation Cooperatives. More information about the ACCCNRS is available at https://nccwsc.usgs.gov/content/advisory-committee-climate-change-and-natural-resource-science-acccnrs.

Meeting Agenda: The objectives of this meeting are to: (1) Provide ACCCNRS Members with a working understanding of the USGS National Climate Change and Wildlife Science Center and the DOI Climate Science Centers; (2) provide an overview of other federal climate science services and programs; (3) review the Committee's charge, scope, operating procedures, and ground rules; (4) review and solicit Committee input on the CSCs and NCCWSC approach to science and stakeholder engagement; and (5) define an agenda for future Committee meetings. The final agenda will be posted on https://nccwsc.usgs.gov/content/advisory-committee-climate-change-and-natural-resource-science-acccnrs prior to the meeting.

Public Input: All Committee meetings are open to the public. Interested members of the public may present, either orally or through written comments, information for the Committee to consider during the public meeting. The public will be able to make comment on Wednesday, September 18, 2013, from 5:00 p.m. to 5:15 p.m. and on Thursday, September 19, 2013, from 2:30 p.m. to 2:45 p.m.

Individuals or groups requesting to make comment at the public Committee meeting will be limited to 2 minutes per speaker. The Committee will endeavor to provide adequate opportunity for all speakers, within available time limits. Speakers who wish to expand upon their oral statements, or those who had wished to speak, but could not be accommodated during the public comment period, are encouraged to submit their comments in written form to the Committee after the meeting.

Written comments should be submitted, prior to, during, or after the meeting, to Mr. Robin O'Malley, Designated Federal Officer, by U.S. Mail to: Mr. Robin O'Malley, Designated Federal Officer, U.S. Geological Survey, 12201 Sunrise Valley Drive, Mail Stop 400, Reston, VA 20192, or via email, at romalley@usgs.gov.

The meeting location is open to the public, and current, government issued, photo ID is required to enter. Space is limited, so all interested in attending should pre-register. Please submit your name, time of arrival, email address and phone number to Mr. Robin O'Malley via email at romalley@usgs.gov, or by phone at (703) 648-4086, by close of business on September 11, 2013. Please also notify Mr. O'Malley if you are unable to attend the meeting in person, but would be interested in joining virtually (e.g. conference phone and internet access to meeting presentations). Virtual meeting access will be available with sufficient interest. Persons with disabilities requiring special services, such as an interpreter for the hearing impaired, should contact Mr. O'Malley at (703) 648-4086 at least seven calendar days prior to the meeting. We will do our best to accommodate those who are unable to meet this deadline.

Dated: August 9, 2013.
Robin O'Malley,
Designated Federal Officer.

[FR Doc. 2013-19924 Filed 8-15-13; 8:45 am]

BILLING CODE 4311-AM-P